DEPARTMENT OF ENERGY

Environmental Management Site-Specific Advisory Board, Paducah

AGENCY: Department of Energy.

ACTION: Notice of cancellation of open meeting.

SUMMARY: On August 2, 2016, the Department of Energy (DOE) published a notice of open meeting announcing a meeting on August 18, 2016, of the Environmental Management Site-Specific Advisory Board, Paducah. This notice announces the cancellation of this meeting. The meeting is being cancelled because the board will not have a quorum due to scheduling conflicts by members. The next regular meeting will be held on September 15, 2016.

DATES: The meeting scheduled for August 18, 2016, announced in the August 2, 2016, issue of the Federal Register (FR Doc. 2016-18186, 81 FR 50693), is cancelled. The next regular meeting will be held on September 15, 2016.

FOR FURTHER INFORMATION CONTACT: Jennifer Woodard, Deputy Designated Federal Officer, Department of Energy Paducah Site Office, Post Office Box 1410, MS-103, Paducah, Kentucky 42001, (270) 441-6825.

Issued at Washington, DC, on August 11, 2016.
LaTanya R. Butler,
Deputy Committee Management Officer.

[FR Doc. 2016-19529 Filed 8-16-16; 8:45 am]

BILLING CODE 6405-01-P